ENVIRONMENTAL PROTECTION AGENCY

40 CFR Part 52

[PA213-4026, FRL-7636-5]

Approval and Promulgation of Implementation Plans; Pennsylvania; Revision to the Rate of Progress Plan for the 1-Hour Ozone Standard for the Pennsylvania Portion of the Philadelphia Area

AGENCY: Environmental Protection Agency (EPA).

ACTION: Proposed rule.

SUMMARY: EPA is proposing to approve a revision to the Pennsylvania State Implementation Plan (SIP). Specifically, EPA is proposing approval of the revised mobile emission inventories and 2005 motor vehicle emissions budgets (MVEBs) which have been developed using MOBILE6, an updated model for calculating mobile emissions of ozone precursors. These inventories and MVEBs are part of the Rate of Progress (ROP) plan approved for the Pennsylvania portion of the Philadelphia-Wilmington-Trenton severe 1-Hour ozone nonattainment area (the Philadelphia area). The intended effect of this action is to approve a SIP revision that will better enable the Commonwealth of Pennsylvania to continue to plan for attainment of the 1-Hour national ambient air quality standard (NAAQS) for ozone in the Pennsylvania portion of the Philadelphia area. This action is being taken under the Clean Air Act.

DATES: Written comments must be received on or before April 15, 2004.

ADDRESSES: Comments may be submitted either by mail or electronically. Written comments should be mailed to Martin T. Kotsch, Energy, Radiation and Indoor Environment, Mail Code 3AP23, U.S. Environmental Protection Agency, Region III, 1650 Arch Street, Philadelphia, Pennsylvania 19103. Electronic comments should be sent either to Kotsch.Martin@epa.gov or to http://www.regulations.gov, which is an alternative method for submitting electronic comments to EPA. To submit comments, please follow the detailed instructions described in part III of the SUPPLEMENTARY INFORMATION section. Copies of the documents relevant to this action are available for public inspection during normal business hours at the Air Protection Division, U.S. Environmental Protection Agency, Region III, 1650 Arch Street, Philadelphia, Pennsylvania, 19103, and the Pennsylvania Department of Environmental Protection, Bureau of Air Quality Control, P.O. Box 8468, 400 Market Street, Harrisburg, Pennsylvania 17105.

FOR FURTHER INFORMATION CONTACT: Martin T. Kotsch, Energy, Radiation and Indoor Environment Branch, U.S. Environmental Protection Agency, 1650 Arch Street, Mail Code 3AP23, Philadelphia, Pennsylvania 19103-20209, (215) 814-3335, or by e-mail at Kotsch.Martin@epa.gov.

SUPPLEMENTARY INFORMATION:

I. Background

The MOBILE model is an EPA emissions factor model for estimating pollution from on-road motor vehicles. The MOBILE model calculates emissions of volatile organic compounds (VOCs), nitrogen oxides (NOX) and carbon monoxide (CO) from passenger cars, motorcycles, buses, and light-duty and heavy-duty trucks. The model accounts for emission factors such as changes in vehicle emission standards, changes in vehicle populations and activity, and variation in local conditions such as temperature, humidity, fuel quality, and air quality programs. The MOBILE model is used to calculate current and future inventories of motor vehicle emissions at the national and local levels. Inventories based on MOBILE are also used to meet the Federal Clean Air Act's SIP and transportation conformity requirements.

The MOBILE model was first developed in 1978. It has been updated many times to reflect changes in the vehicle fleet and fuels, to incorporate EPA's growing understanding of vehicle emissions, and to cover new emissions regulations and modeling needs. EPA officially released the MOBILE6 motor vehicle emissions factor model on January 29, 2002 (67 FR 4254). Although some minor updates were made in 1996 with the release of MOBILE5b, the MOBILE6 version of the model is its first major revision since MOBILE5a was released in 1993.

II. Summary of the SIP Revisions and EPA's Evaluation

A. The Revised Emission Inventories

On January 9, 2004, the Commonwealth of Pennsylvania submitted proposed SIP revisions, and requested that EPA parallel process its approval of those SIP revisions concurrent with the state's process for amending its SIP. These proposed SIP revisions revise the 1990 and 2005 motor vehicle emissions inventories and the 2005 motor vehicle emissions budgets using the MOBILE6 model. The January 9, 2004, submittal demonstrates that the new levels of motor vehicle emissions calculated using MOBILE6 continue to demonstrate ROP for the 1-Hour ozone NAAQS for the Pennsylvania portion of the Philadelphia area for the year 2005.

Table 1 summarizes the revised motor vehicle emissions inventories area in tons per summer day (tpd). These revised inventories were developed using the latest planning assumptions, including 2002 vehicle registration data, vehicle miles traveled (VMT), speeds, fleet mix, and SIP control measures.

Table 1.—Revised Motor Vehicle Emissions Inventories
Nonattainment Area | 1990: VOC (tpd) | 1990: NOX (tpd) | 2005: VOC (tpd) | 2005: NOX (tpd)
Pennsylvania Portion of the Philadelphia Area | 239.95 | 252.93 | 79.69 | 144.73

EPA has articulated its policy regarding the use of MOBILE6 in SIP development in its “Policy Guidance on the Use of MOBILE6 for SIP Development and Transportation Conformity.” ¹Consistent with this policy guidance, the Commonwealth of Pennsylvania's January 9, 2004, submittal includes a relative reduction comparison to show that its 1-Hour Ozone ROP Plan continues to demonstrate ROP for attainment using revised MOBILE6 inventories for its portion of the Philadelphia area. The Commonwealth's methodology for the relative reduction comparison consisted of comparing the new MOBILE6 inventories with the previously approved (66 FR 54143) MOBILE5 inventories for the Pennsylvania portion of the Philadelphia area. Specifically, the state calculated the relative reductions (expressed as percent reductions) in ozone precursors between the MOBILE5-based 1990 base year and attainment year inventory. These percent reductions were then compared to the percent reductions between the revised MOBILE6-based 1990 base year and attainment year inventories. It should again be noted that the latest planning assumptions were used in modeling for the Commonwealth's relative reduction comparison.

¹ Memorandum, “Policy Guidance on the Use of MOBILE6 for SIP Development and Transportation Conformity,” issued January 18, 2002. A copy of this memorandum can be found on EPA's Web site at http://www.epa.gov/otaq/transp/traqconf.htm.

Pennsylvania's relative reduction comparison shows that for the Pennsylvania portion of the Philadelphia area, the percent reductions in VOC and NOX emissions achieved in the revised MOBILE6-based inventories are lower than the percent reductions calculated with MOBILE5. The analysis determined that the new MOBILE6 analysis resulted in a 6.65 tons per day NOX shortfall and a 0.82 tons per day VOC shortfall.

Based upon the emission inventories and using EPA guidance titled “NOX Substitution” United States Environmental Protection Agency, Office of Air Quality Planning and Standards, dated December 1993, Pennsylvania determined that for the Philadelphia area approximately 1 ton of NOX emissions is equivalent to 1.37 tons of VOC emissions, as emissions of those pollutants relate to their potential to form ozone. Using this factor, Pennsylvania converted their NOX shortfall to a VOC equivalent shortfall (6.65 tons of NOX per day × 1.37 tons VOC/ton of NOX = 9.11 tons of VOC). Combining this with the previously calculated VOC shortfall of 0.82 tons per day results in a total VOC shortfall of 9.93 tons per day. In order to continue to demonstrate adequate emission reductions for ROP, credit from recently adopted control programs pursuant to the Ozone Transport Commission (OTC) Model rules were added as control measures to the 2005 ROP plan. These new measures include the following Pennsylvania regulations developed in accordance with the OTC Model Rules: consumer products, portable fuel containers, AIM coatings, mobile equipment finishing and solvent cleaning operations. These control measures have total creditable VOC reduction of 41.89 tons per day, which is more than adequate to offset the increase in mobile emissions as calculated with MOBILE6.

EPA's policy guidance also required the state to consider whether growth and control strategy assumptions for non-motor vehicle sources (i.e., point, area, and non-road mobile sources) were still accurate at the time the January 9, 2004, submittal was developed. Pennsylvania reviewed the growth and control strategy assumptions for non-motor vehicle sources, and concluded that these assumptions continue to be valid for its 1-Hour Ozone ROP Plan.

Pennsylvania's January 9, 2004, submittal satisfies the conditions outlined in EPA's MOBILE6 Policy guidance, and demonstrates that the new levels of motor vehicle emissions calculated using MOBILE6 continue to demonstrate ROP for the year 2005 in the Pennsylvania portion of the Philadelphia area.

B. The Revised Motor Vehicle Emissions Budgets (MVEBs)

The MVEBs are the on-road components of VOC and NOX emissions of the 2005 attainment inventories. Table 2 summarizes Pennsylvania's revised MVEBs contained in the January 9, 2004, submittal. These budgets were developed using the latest planning assumptions, including 2002 vehicle registration data, VMT, speeds, fleet mix, and SIP control measures. Because Pennsylvania's January 9, 2004, submittal satisfies the conditions outlined in EPA's MOBILE6 Policy guidance, and demonstrates that the new levels of motor vehicle emissions calculated using MOBILE6 continue to demonstrate ROP for 2005 for the Pennsylvania portion of the Philadelphia area, EPA is proposing to approve these budgets.

Table 2.—Pennsylvania's Motor Vehicle Emissions Budgets
Nonattainment Area | 2005 Attainment: VOC (tpd) | 2005 Attainment: NOX (tpd)
Pennsylvania Portion of the Philadelphia Area | 79.69 | 144.73

III. Proposed EPA Action

EPA is proposing to approve the Pennsylvania revisions to the 2005 ROP plan which were submitted on January 9, 2004. These revisions amend the Pennsylvania's 1990 and 2005 motor vehicle emission inventories and the 2005 motor MVEBs for the Pennsylvania portion of the Philadelphia area to reflect the use of MOBILE6. These revisions are being proposed under a procedure called parallel processing, whereby EPA proposes rulemaking action concurrent with the state's procedures for amending its ROP Plans. If the proposed revisions are substantively changed in areas other than those identified in this action, EPA will evaluate those changes and may publish another notice of proposed rulemaking. If no substantive changes are made to the currently proposed SIP revision, EPA will publish a Final Rulemaking Notice on the revisions. The final rulemaking action by EPA will occur only after the SIP revisions have been adopted by Pennsylvania and submitted formally to EPA for incorporation into the SIP. EPA is soliciting public comments on this proposed rule. These comments will be considered before taking final action. Interested parties may participate in the Federal rulemaking procedure by submitting either electronic or written comments. To ensure proper receipt by EPA, identify the appropriate rulemaking identification number PA213-4026 in the subject line on the first page of your comment. Please ensure that your comments are submitted within the specified comment period. Comments received after the close of the comment period will be marked “late.” EPA is not required to consider these late comments.

1. Electronically. If you submit an electronic comment as prescribed below, EPA recommends that you include your name, mailing address, and an e-mail address or other contact information in the body of your comment. Also include this contact information on the outside of any disk or CD ROM you submit, and in any cover letter accompanying the disk or CD ROM. This ensures that you can be identified as the submitter of the comment and allows EPA to contact you in case EPA cannot read your comment due to technical difficulties or needs further information on the substance of your comment. EPA's policy is that EPA will not edit your comment, and any identifying or contact information provided in the body of a comment will be included as part of the comment that is placed in the official public docket. If EPA cannot read your comment due to technical difficulties and cannot contact you for clarification, EPA may not be able to consider your comment.

i. E-mail. Comments may be sent by electronic mail (e-mail) to Kotsch.Martin@EPA.gov, attention PA213-4026. EPA's e-mail system is not an “anonymous access” system. If you send an e-mail comment directly without going through Regulations.gov, EPA's e-mail system automatically captures your e-mail address. E-mail addresses that are automatically captured by EPA's e-mail system are included as part of the comment that is placed in the official public docket.

ii. Regulations.gov. Your use of Regulation.gov is an alternative method of submitting electronic comments to EPA. Go directly to Regulations.gov at http://www.regulations.gov, then select “Environmental Protection Agency” at the top of the page and use the “go” button. The list of current EPA actions available for comment will be listed. Please follow the online instructions for submitting comments. The system is an “anonymous access” system, which means EPA will not know your identity, e-mail address, or other contact information unless you provide it in the body of your comment.

iii. Disk or CD ROM. You may submit comments on a disk or CD ROM that you mail to the mailing address identified in the ADDRESSES section of this document. These electronic submissions will be accepted in WordPerfect, Word or ASCII file format. Avoid the use of special characters and any form of encryption.

2. By Mail. Written comments should be addressed to the EPA Regional office listed in the ADDRESSES section of this document.

For public commenters, it is important to note that EPA's policy is that public comments, whether submitted electronically or in paper, will be made available for public viewing at the EPA Regional Office, as EPA receives them and without change, unless the comment contains copyrighted material, confidential business information (CBI), or other information whose disclosure is restricted by statute. When EPA identifies a comment containing copyrighted material, EPA will provide a reference to that material in the version of the comment that is placed in the official public rulemaking file. The entire printed comment, including the copyrighted material, will be available at the Regional Office for public inspection.

Submittal of CBI Comments

Do not submit information that you consider to be CBI electronically to EPA. You may claim information that you submit to EPA as CBI by marking any part or all of that information as CBI (if you submit CBI on disk or CD ROM, mark the outside of the disk or CD ROM as CBI and then identify electronically within the disk or CD ROM the specific information that is CBI). Information so marked will not be disclosed except in accordance with procedures set forth in 40 CFR part 2.

In addition to one complete version of the comment that includes any information claimed as CBI, a copy of the comment that does not contain the information claimed as CBI must be submitted for inclusion in the official public regional rulemaking file. If you submit the copy that does not contain CBI on disk or CD ROM, mark the outside of the disk or CD ROM clearly that it does not contain CBI. Information not marked as CBI will be included in the public file and available for public inspection without prior notice. If you have any questions about CBI or the procedures for claiming CBI, please consult the person identified in the FOR FURTHER INFORMATION CONTACT section.

Considerations when Preparing Comments to EPA

You may find the following suggestions helpful for preparing your comments:

1. Explain your views as clearly as possible.

2. Describe any assumptions that you used.

3. Provide any technical information and/or data you used that support your views.

4. If you estimate potential burden or costs, explain how you arrived at your estimate.

5. Provide specific examples to illustrate your concerns.

6. Offer alternatives.

7. Make sure to submit your comments by the comment period deadline identified.

8. To ensure proper receipt by EPA, identify the appropriate regional file/rulemaking identification number in the subject line on the first page of your response. It would also be helpful if you provided the name, date, and Federal Register citation related to your comments.

IV. Statutory and Executive Order Reviews

Under Executive Order 12866 (58 FR 51735, October 4, 1993), this proposed action is not a “significant regulatory action” and therefore is not subject to review by the Office of Management and Budget. For this reason, this action is also not subject to Executive Order 13211, “Actions Concerning Regulations That Significantly Affect Energy Supply, Distribution, or Use” (66 FR 28355, May 22, 2001). This proposed action merely proposes to approve state law as meeting Federal requirements and imposes no additional requirements beyond those imposed by state law. Accordingly, the Administrator certifies that this proposed rule will not have a significant economic impact on a substantial number of small entities under the Regulatory Flexibility Act (5 U.S.C. 601 et seq.). Because this rule proposes to approve pre-existing requirements under state law and does not impose any additional enforceable duty beyond that required by state law, it does not contain any unfunded mandate or significantly or uniquely affect small governments, as described in the Unfunded Mandates Reform Act of 1995 (Public Law 104-4).

This proposed rule also does not have tribal implications because it will not have a substantial direct effect on one or more Indian tribes, on the relationship between the Federal government and Indian tribes, or on the distribution of power and responsibilities between the Federal government and Indian tribes, as specified by Executive Order 13175 (65 FR 67249, November 9, 2000). This action also does not have federalism implications because it does not have substantial direct effects on the States, on the relationship between the national government and the States, or on the distribution of power and responsibilities among the various levels of government, as specified in Executive Order 13132 (64 FR 43255, August 10, 1999). This action merely proposes to approve a state rule implementing a Federal standard, and does not alter the relationship or the distribution of power and responsibilities established in the Clean Air Act. This proposed rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the state to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply.

This rule proposing to approve Pennsylvania's revised 1990 and 2005 motor vehicle emission inventories and 2005 MVEBs of the 2005 ROP plan using MOBILE6 for the Pennsylvania portion of the Philadelphia area and does not impose an information collection burden under the provisions of the Paperwork Reduction Act of 1995 (44 U.S.C. 3501 et seq.).

List of Subjects in 40 CFR Part 52

Environmental protection, Air pollution control, Intergovernmental relations, Nitrogen dioxide, Ozone, Reporting and recordkeeping requirements, Volatile organic compounds.

Authority: 42 U.S.C. 7401 et seq.

Dated: March 5, 2004.
Thomas Voltaggio,
Acting Regional Administrator, Region III.

[FR Doc. 04-5872 Filed 3-15-04; 8:45 am]

BILLING CODE 6560-50-P